COMMITTEE FOR PURCHASE FROM PEOPLE WHO ARE BLIND OR SEVERELY DISABLED

Procurement List; Additions, Clarification of Requirement

AGENCY: Committee for Purchase From People Who Are Blind or Severely Disabled.

ACTION: Addition to the procurement list; clarification of requirement.

SUMMARY: In this document, we are reiterating an earlier clarification of the Federal Government requirement for the addition to the Procurement List of vegetable oil (domestic) to be furnished to the Federal Government by a nonprofit agency employing persons who are blind or have other severe disabilities.

DATES: Effective Date: June 19, 2005.

ADDRESSES: Committee for Purchase From People Who Are Blind or Severely Disabled, Jefferson Plaza 2, Suite 10800, 1421 Jefferson Davis Highway, Arlington, Virginia 22202-3259.

For Further Information or to Submit Comments Contact: Sheryl D. Kennerly, Telephone: (703) 603-7740, Fax: (703) 603-0655, or e-mail skennerly@jwod.gov.

SUPPLEMENTARY INFORMATION: On May 20, 2005, we published in the Federal Register (70 FR 29274-29276) a notice to add one product and four services to the Procurement List, and to delete two services from the Procurement List. That notice was based in part on a notice of proposed addition (70 FR 5963-5964) dated February 4, 2005, clarifying an earlier notice (69 FR 71777-71778) dated December 10, 2004.

The February 4, 2005 notice (70 FR 5963-5964) clarified the Federal Government requirement for one of the products to be added: Vegetable Oil (Domestic), 10 percent of U.S. Department of Agriculture (USDA) Requirement, 8945-00-NSH-0002; NPA: Advocacy and Resources Corporation, Cookeville, Tennessee; Contracting Activity: USDA, Farm Service Agency, Washington, DC.

The February 4, 2005 notice (70 FR 5963-5964) stated that this product will be provided exclusively as liquid oil (all types) in one gallon bottles in a quantity equivalent to 10% of the total Government requirement for refined, packaged, vegetable oil for domestic purchases regardless of type or pack style according to CID A-A-20091, Salad Oil, Vegetable. This same clarification applies to the listing of the product on the Procurement List announced in the May 20, 2005 final addition notice (70 FR 29274-29276).

Authority: 41 U.S.C. 46-48c.

Sheryl D. Kennerly,
Director, Information Management.

[FR Doc. E5-2855 Filed 6-2-05; 8:45 am]

BILLING CODE 6353-01-P